DEPARTMENT OF TRANSPORTATION

Maritime Administration

[Docket No. MARAD-2018-0088]

Request for Comments on the Renewal of a Previously Approved Information Collection—Center of Excellence for Domestic Maritime Workforce Training and Education (CoE) Annual Application for Designation

AGENCY: Maritime Administration, DOT.

ACTION: Notice and request for comments.

SUMMARY: This notice provides interested parties with the opportunity to comment on the Maritime Administration's (MARAD's) intention to request approval, for three years, of a previously approved information collection related to designating Centers of Excellence for Domestic Maritime Workforce Training and Education (CoE). Interested covered training institutions can voluntarily apply to MARAD with sufficient information to demonstrate they meet the designation criteria. Designated CoEs may voluntarily submit renewal applications prior to expiry of their CoE designation.

DATES: Comments should be submitted on or before June 7, 2021.

ADDRESSES: You may submit comments identified by DOT Docket No. MARAD-2018-0088 through one of the following methods:

• Website/Federal eRulemaking Portal: www.regulations.gov. Search using the above DOT docket number and follow the online instructions for submitting comments.

• Mail: Docket Management Facility, U.S. Department of Transportation, 1200 New Jersey Avenue SE, West Building, Room PL-401, Washington, DC 20590-0001.

• Hand Delivery: Room PL-401 of the Department of Transportation, 1200 New Jersey Avenue SE, Washington, DC, between 9 a.m. and 5 p.m., Monday through Friday, except Federal holidays.

Instructions: All submissions must include the agency name and docket number for this rulemaking.

Note: All comments received will be posted without change to www.regulations.gov including any personal information provided.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Electronic Access and Filing

A copy of the notice may be viewed online at www.regulations.gov using the docket number listed above. A copy of this notice will be placed in the docket. Electronic retrieval help and guidelines are available on the website. It is available 24 hours each day, 365 days each year. An electronic copy of this document may also be downloaded from the Office of the Federal Register's website at www.FederalRegister.gov and the Government Publishing Office's website at www.GovInfo.gov.

FOR FURTHER INFORMATION CONTACT: Gerard Wall, Maritime Administration, at gerard.wall@dot.gov or at 202-366-1250. You may send mail to Gerard Wall, Centers of Excellence Program Manager, Room W23-470, Maritime Administration, U.S. Department of Transportation, 1200 New Jersey Avenue SE, Washington, DC 20590.

SUPPLEMENTARY INFORMATION: Title: Center of Excellence for Domestic Maritime Workforce Training and Education Annual Applications for Designation.

OMB Control Number: 2133-0549.

Type of Request: Renewal of a previously approved information collection.

Abstract: To implement Section 3507 of the National Defense Authorization Act of 2018, Public Law 115-91 (the “Act”), codified at 46 U.S.C. 51705 (previously designated as 46 U.S.C. 54102), MARAD developed a procedure to recommend to the Secretary the designation of eligible institutions as Centers of Excellence for Domestic Maritime Workforce Training and Education (CoE). Pursuant to the Act, the Secretary of Transportation may designate certain eligible and qualified training entities as CoEs and may subsequently execute Cooperative Agreements with CoE designees. Authority to administer the CoE program is delegated to MARAD in 49 CFR 1.93(a). The previously approved policy for collecting information is required to administer the Center of Excellence program which supports the DOT strategic goal of Economic Competitiveness, and the MARAD strategic goal to Maintain and Modernize the Maritime workforce.

Respondents: “Community Colleges or Technical Colleges” and “Maritime Training Centers” in certain eligible locations are eligible to apply for CoE designation. Additionally, only “Maritime Training Centers” with a maritime training program in operation on 12 December 2017 are eligible under the statute.

Affected Public: Community Colleges, Technical Colleges and Maritime Training Centers.

Estimated Number of Respondents: 200.

Estimated Number of Responses: 100.

Estimated Hours per Response: 48.

Annual Estimated Total Annual Burden Hours: 4,800.

Frequency of Response: Annually.

Authority: The Paperwork Reduction Act of 1995; 44 U.S.C. chapter 35, as amended; and 49 CFR 1.93.

* * * * *

By Order of the Acting Maritime Administrator.
T. Mitchell Hudson, Jr.,
Secretary, Maritime Administration.

[FR Doc. 2021-07142 Filed 4-6-21; 8:45 am]

BILLING CODE 4910-81-P